GENERAL SERVICES ADMINISTRATION

Public Buildings Service; Termination of Environmental Impact Statement (EIS); Los Angeles FBI Field Office, Los Angeles, California

AGENCY: Portfolio Management Division, Pacific Rim Region 9.

ACTION: Notice.

The purpose of this notice is to inform all interested parties that the General Services Administration (GSA) has cancelled the Environmental Impact Statement (EIS) for the proposed Federal Bureau of Investigation (FBI) Field Office headquarters. GSA is looking for other alternatives meeting the purpose and need as stated in the EIS.

EFFECTIVE DATE: May 16, 2007.

FOR FURTHER INFORMATION CONTACT Gene Gibson, Regional Public Affairs Officer, U. S. General Services Administration, 450 Golden Gate Avenue, San Francisco, CA 94102. Phone: 415-522-3001.

Peter G. Stamison,
Regional Administrator GSA, Region 9.

[FR Doc. E7-10748 Filed 6-4-07; 8:45 am]

BILLING CODE 6820-YF-S